COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 7/29/2013.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 4/19/2013 (78 FR 23542-23543); 4/26/2013 (78 FR 24732-24733); 5/3/2013 (78 FR 25970-25971); and 5/10/2013 (78 FR 27368-27369), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 7520-00-NSH-0189—Hole Punch, Paper, Light Duty, 3-Hole, Adjustable, 10 sheet capacity, Black.

NSN: 7520-00-NSH-0191—Hole Punch, Paper, Light Duty, 3-Hole, Adjustable, 8 sheet capacity, Black.

NSN: 7520-00-NSH-0193—Hole Punch, Paper, High-capacity, 2-Hole, Adjustable, 30 sheet capacity, Black Base, Black Grip.

NSN: 7520-00-NSH-0194—Hole Punch, Paper, High-capacity, 3-Hole, Adjustable, 32 sheet capacity, Black Base, Metallic Handle.

NSN: 7520-00-NSH-0196—Hole Punch, Paper, Light Duty, 3-Hole, Adjustable, 11 sheet capacity, Black Base, Metallic Handle.

NSN: 7520-00-NSH-0197—Hole Punch, Paper, Desktop, 3-Hole, Adjustable, 11 sheet capacity, Metallic Base, Black Grip.

Coverage: A-List for the Total Government Requirement as aggregated by the General Services Administration, New York, NY.

NSN: 7520-00-NSH-0188—Hole Punch, Paper, High-capacity, 3-Hole, Adjustable, 28 sheet capacity, Black Base, Black Grip.

NSN: 7520-00-NSH-0195—Hole Punch, Paper, Light Duty, 3-Hole, Adjustable, 10 sheet capacity, Metallic Base, Black Handle.

NSN: 7520-00-NSH-0199—Hole Punch, Paper, High-capacity, 2-Hole, Adjustable, 30 sheet capacity, Black Base, Metallic Handle.

Coverage: B-List for the Broad Government requirement as aggregated by the General Services Administration, New York, NY.

NPA: FVO Solutions Inc., Pasadena, CA.

Contracting Activity: GENERAL SERVICES ADMINISTRATION, NEW YORK, NY

NSN: 6230-00-NIB-0033—Kit, Safety Flare, Programmable Flicker Pattern, Red LED, 8 in Diameter, AA Battery Operated.

NSN: 6230-00-NIB-0034—Kit, Safety Flare, Programmable Flicker Pattern, Red LED, 8 in Diameter, Rechargeable Power Unit.

Coverage: B-List for the Broad Government Requirement as aggregated by the Defense Logistics Agency Troop Support, Philadelphia, PA.

NPA: Tarrant County Association for the Blind, Fort Worth, TX.

Contracting Activity: DEFENSE LOGISTICS AGENCY TROOP SUPPORT, PHILADELPHIA, PA.

NSN: 7920-00-NIB-0548—Scrubber, Grout, Non-Scratch, Light Blue.

NSN: 7920-00-NIB-0549—Scrubber, Kitchen/Bath, Non-scratch, Dark Blue.

NSN: 7920-00-NIB-0550—Scrubber, Tub/Shower, Non-scratch, Light Blue.

Coverage: B-List for the Broad Government requirement as aggregated by the General Services Administration, Fort Worth, TX.

NPA: Industries for the Blind, Inc., West Allis, WI.

Contracting Activity: GENERAL SERVICES ADMINISTRATION, FORT WORTH, TX.

NSN: 8970-00-NSH-0026—Meal Kit, Turkey, Detainees, DHS ICE.

NSN: 8970-00-NSH-0027—Meal Kit, Roast Beef, Detainees, DHS ICE.

Coverage: C-List for 100% of the requirement of the U.S. Immigration and Customs Enforcement, York, PA detainment facility, as aggregated by Compliance and Removals, U.S. Immigration and Customs Enforcement, Washington, DC.

NPA: The Arc of Cumberland and Perry Counties, Carlisle, PA.

Contracting Activity: DEPT OF HOMELAND SECURITY, U.S. IMMIGRATION AND CUSTOMS ENFORCEMENT, COMPLIANCE AND REMOVALS, WASHINGTON, DC.

Services

Service Type/Location: Linen Rental Service, Court Services and Offender Supervision Agency, 633 Indiana Ave, Room 892, NW., Washington, DC.

NPA: Rappahannock Goodwill Industries, Inc., Fredericksburg, VA.

Contracting Activity: COURT SERVICES AND OFFENDER SUPERVISION AGENCY, WASHINGTON, DC.

Service Type/Location: Grounds Maintenance Service, USDA APHIS Veterinary Services, 6300 NW, 36th Street, Miami, FL.

NPA: Goodwill Industries of South Florida, Inc., Miami, FL.

Contracting Activity: DEPT OF AGRICULTURE, ANIMAL AND PLANT HEALTH INSPECTION SERVICE, MINNEAPOLIS, MN.

Service Type/Location: Janitorial Service, Dubois Ranger District Office, Caribou-Targhee National Forest, 98 North Oakley, Dubois, ID.

NPA: Development Workshop, Inc., Idaho Falls, ID.

Contracting Activity: Forest Service, Caribou-Targhee National Forest, Idaho Falls, ID.

Service Type/Location: Custodial Service, Air National Guard Air Force Reserve Command Test Center, 1600 E. Super Sabre Drive, Bldg. 10, Tucson, AZ.

NPA: Beacon Group SW., Inc., Tucson, AZ.

Contracting Activity: DEPT OF THE ARMY, W7MV USPFO ACTIVITY AZ ARNG, PHOENIX, AZ.

Barry S. Lineback,
Director, Business Operations.

[FR Doc. 2013-15513 Filed 6-27-13; 8:45 am]

BILLING CODE 6353-01-P